DEPARTMENT OF TRANSPORTATION

National Highway Traffic Safety Administration

[Docket No. NHTSA-2021-0009]

Agency Information Collection Activities; Notice and Request for Comment; Uniform Procedures for State Highway Safety Grant Programs

AGENCY: National Highway Traffic Safety Administration (NHTSA), Department of Transportation (DOT).

ACTION: Notice and request for comments on an extension of a currently-approved information collection.

SUMMARY: The National Highway Traffic Safety Administration (NHTSA) invites public comments about our intention to request approval from the Office of Management and Budget (OMB) for an extension of a currently-approved information collection. Before a Federal agency can collect certain information from the public, it must receive approval from OMB. Under procedures established by the Paperwork Reduction Act of 1995, before seeking OMB approval, Federal agencies must solicit public comment on proposed collections of information, including extensions and reinstatement of previously approved collections. This document describes NHTSA's collection of information for its State Highway Safety Grant Program.

DATES: Comments must be submitted on or before April 12, 2021.

ADDRESSES: You may submit comments identified by the Docket No. NHTSA-2021-0009 through any of the following methods:

• Electronic submissions: Go to the Federal eRulemaking Portal at http://www.regulations.gov. Follow the online instructions for submitting comments.

• Fax: (202) 493-2251.

• Mail or Hand Delivery: Docket Management, U.S. Department of Transportation, 1200 New Jersey Avenue SE, West Building, Room W12-140, Washington, DC 20590, between 9 a.m. and 5 p.m., Monday through Friday, except on Federal holidays.

Instructions: All submissions must include the agency name and docket number for this notice. Note that all comments received will be posted without change to http://www.regulations.gov, including any personal information provided. Please see the Privacy Act heading below.

Privacy Act: Anyone is able to search the electronic form of all comments received into any of our dockets by the name of the individual submitting the comment (or signing the comment, if submitted on behalf of an association, business, labor union, etc.). You may review DOT's complete Privacy Act Statement in the Federal Register published on April 11, 2000 (65 FR 19477-78) or you may visit https://www.transportation.gov/privacy.

Docket: For access to the docket to read background documents or comments received, go to http://www.regulations.gov or the street address listed above. Follow the online instructions for accessing the dockets via internet.

FOR FURTHER INFORMATION CONTACT: For programmatic issues, contact Barbara Sauers, Regional Operations and Program Delivery, NRO-011, National Highway Traffic Safety Administration, U.S. Department of Transportation, 1200 New Jersey Avenue SE, Washington, DC 20590; Telephone: 202-366-0144. For legal issues and background information, contact Roland (R.T.) Baumann III, Office of the Chief Counsel, NCC-300, National Highway Traffic Safety Administration, U.S. Department of Transportation, 1200 New Jersey Avenue SE, Washington, DC 20590; Telephone: 202-366-1834. Please identify the relevant collection of information by referring to its OMB Control Number.

SUPPLEMENTARY INFORMATION: Under the Paperwork Reduction Act of 1995 (44 U.S.C. 3501 et seq.), before an agency submits a proposed collection of information to OMB for approval, it must first publish a document in the Federal Register providing a 60-day comment period and otherwise consult with members of the public and affected agencies concerning each proposed collection of information. The OMB has promulgated regulations describing what must be included in such a document. Under OMB's regulation (at 5 CFR 1320.8(d)), an agency must ask for public comment on the following: (a) Whether the proposed collection of information is necessary for the proper performance of the functions of the agency, including whether the information will have practical utility; (b) the accuracy of the agency's estimate of the burden of the proposed collection of information, including the validity of the methodology and assumptions used; (c) how to enhance the quality, utility, and clarity of the information to be collected; and (d) how to minimize the burden of the collection of information on those who are to respond, including the use of appropriate automated, electronic, mechanical, or other technological collection techniques or other forms of information technology, e.g. permitting electronic submission of responses. In compliance with these requirements, NHTSA asks for public comments on the following proposed collection of information for which the agency is seeking approval from OMB.

Title: Uniform Procedures for State Highway Safety Grant Programs.

OMB Control Number: 2127-0730.

Form Number(s): None.

Type of Request: Extension.

Type of Review Requested: Regular.

Requested Expiration Date of Approval: 3 years from date of approval.

Summary of the Collection of Information

The Fixing America's Surface Transportation Act (FAST), Public Law 114-94, authorizes the National Highway Traffic Safety Administration (NHTSA) to issue highway safety grants to States under Chapter 4 of Title 23, U.S.C. Specifically, these grant programs include the Highway Safety Program grants (23 U.S.C. 402 or Section 402), the National Priority Safety Program grants (23 U.S.C. 405 or Section 405) and a separate grant on racial profiling data collection contained in a previous authorization that was revised and restored under the FAST Act (Pub. L. 109-59, Sec. 1906 or Section 1906, as amended by Sec. 4011, Pub. L. 114-94).

For all of these grants, as directed in statute, NHTSA uses a consolidated application process that relies on the Highway Safety Plan (HSP) States submit under the Section 402 program as a single application. The information required to be submitted for these grants includes the HSP consisting of information on the highway safety planning process, performance report, performance plan, problem identification, highway safety countermeasure strategies, projects and funding amounts, certifications and assurances, and application materials that cover Section 405 grants and the reauthorized Section 1906 grant.¹ States also must submit an annual report evaluating their progress in achieving performance targets. In addition, as part of the statutory criteria for Section 405 grants covering the areas of occupant protection, traffic safety information system improvement and impaired driving countermeasures, States may be required to receive assessments of their State programs in order to receive a grant.² States must provide information and respond to questions as part of the assessment process.

¹ Section 405 grants cover the following: Occupant Protection Grants; State Traffic Safety Information System Improvements Grants; Impaired Driving Countermeasures Grants (including Alcohol-Ignition Interlock Grants and 24-7 Sobriety Program Grants); Distracted Driving Grants; Motorcyclist Safety Grants; State Graduated Driver Licensing Incentive Grants; and Nonmotorized Safety Grants. Section 1906 is a separate racial profiling data collection grant.

² Under occupant protection grants, one criterion that a State with a lower belt use rate may use to receive a grant is to complete an assessment of its occupant protection program once every three years (23 U.S.C. 405(b)(3)(B)(ii)(VI)(aa)); and another criterion is a comprehensive occupant protection program that includes a program assessment conducted every five years as one of its elements (23 U.S.C. 405(b)(3)(B)(ii)(V)(aa); 23 CFR 1300.21(e)(5)(i)). Under traffic safety system information system improvement grants, a State must have an assessment of its highway safety data and traffic records system once every 5 years in order to receive a grant (23 U.S.C. 405(c)(3)(E)). Under impaired driving countermeasure grants, a State with high average impaired driving fatality rates must have an assessment of its impaired driving program once every 3 years in order to receive a grant. (23 U.S.C. 405(d)(3)(C)(i)(I)).

Consistent with the statute, NHTSA has implemented a final rule that creates uniform procedures for States to apply for grant funds (83 FR 3466, January 25, 2018). These procedures specify the information that is required to be submitted to receive a grant and the type of information required to verify performance under the grants.

As indicated above, States may be required to receive an assessment of certain covered programs in order to be eligible for some grants under Section 405. Separate from these requirements, States also may request assessments in these areas at their discretion. NHTSA uses two different assessment approaches based on the traffic safety area covered. For occupant protection and impaired driving, assessments are based on NHTSA's Uniform Guidelines for State Highway Safety Programs, which are required by Congress and periodically updated through a process that seeks public comment.³ State programs are assessed against these uniform guidelines by a team of subject matter experts. The assessment team produces a final report with recommendations on how the State can improve the effectiveness of its program. As part of the process, States provide written materials in response to requests from the assessment team and participate in a comprehensive interview process. For traffic safety information systems, States respond to questions based on NHTSA's Traffic Records Program Assessment Advisory (DOT HS 812 601), which describes an ideal traffic records system. The questions cover nine topical areas and examine how well a State plans, collects, manages, and integrates information from several State traffic records systems.⁴ Responses are evaluated by subject matter experts, and a final report is provided to the State with recommendations for improvement.

³ The Uniform Guidelines for State Highway Safety Programs are available online at https://one.nhtsa.gov/nhtsa/whatsup/tea21/tea21programs/index.htm.

⁴ The Traffic Records Program Assessment Advisory is available online at https://crashstats.nhtsa.dot.gov/Api/Public/ViewPublication/812601.

Description of the Need for the Information and Proposed Use of the Information

As noted above, the statute provides that the HSP is the application for grants each fiscal year. The information is necessary to determine whether a State satisfies the Federal criteria for grant awards. The annual report tracks progress in achieving the aims of the grant program. The information is necessary to verify performance under the grants and to provide a basis for improvement. As specified in statute, States may be required to receive an assessment of certain covered programs. The information provided by a State allows subject matter experts to provide recommendations for the purpose of improving the covered areas.

Affected Public

This collection impacts the fifty-seven entities that are eligible to apply for grants under the NHTSA Highway Grant Program (the fifty States, the District of Columbia, Puerto Rico, American Samoa, Guam, the Commonwealth of the Northern Mariana Islands, the U.S. Virgin Islands, and the Bureau of Indian Affairs on behalf of the Indian Country). These respondents will hereafter be referred to as “State respondents.”

This collection also impacts the subject matter experts and administrative assistants who are involved in assessments for the grant program. These subject matter experts are recruited by NHTSA by asking NHTSA Regional Offices and the State Highway Safety Offices to make recommendations. All new occupant protection and impaired driving assessors complete an e-learning course, Conducting Highway Safety Program Assessments.The course is self-paced and entirely on-line. Each impaired driving and occupant protection assessment team consists of five (5) assessors and an administrative assistant. For traffic records assessments, NHTSA uses a contractor to recruit and train the assessors for the online traffic records assessment conducted using NHTSA's Traffic Records Improvement Program Reporting System (TRIPRS). All subject matter experts are current or former members of State Traffic Records Coordinating Committees. There are between 10 to 14 assessors for each traffic records assessment.

Estimated Number of Respondents

There are 57 potential State respondents (the fifty States, the District of Columbia, Puerto Rico, American Samoa, Guam, the Commonwealth of the Northern Mariana Islands, the U.S. Virgin Islands, and the Bureau of Indian Affairs on behalf of the Indian Country).

NHTSA estimates there will be approximately 260 assessor respondents per year. This estimate includes assessors and administrative assistants. Each occupant protection or impaired driving assessment involves five (5) subject matter experts and one (1) administrative assistant. NHTSA estimates that 13 occupant protection and impaired driving assessments will be completed each year, for a total of 78 respondents. Each traffic records assessment involves approximately thirteen (13) subject matter experts. NHTSA estimates that 14 traffic records assessments are completed each year, for a total of 182 traffic records assessors.

Frequency

Applications for grant funding and annul reporting are submitted once a year and assessments are conducted once every three or five years.

Estimated Total Annual Burden Hours: 40,666

The estimated burden hours for the grant application and annual report part of the collection of information are based on all eligible respondents each year for each of the grants:

• Section 402 grants: 57 (fifty States, the District of Columbia, Puerto Rico, the U.S. Virgin Islands, Guam, American Samoa, the Commonwealth of the Northern Mariana Islands, and the Bureau of Indian Affairs);

• Section 405 Grants (except Impaired Driving Countermeasures, Motorcyclist Safety and Nonmotorized Grants) and Section 1906 Grant: 56 (fifty States, the District of Columbia, Puerto Rico, the U.S. Virgin Islands, Guam, American Samoa, and the Commonwealth of the Northern Mariana Islands); and

• Section 405, Impaired Driving Countermeasures, Motorcyclist Safety and Nonmotorized Grants: 52 (fifty States, the District of Columbia, and Puerto Rico).

The estimated burden hours for the assessment part of the collection of information are based on the average number of State assessments that are carried out each year in each of the covered grant areas: ⁵ There are 9 assessments planned for the Section 405 Occupant Protection grants, 14 assessments for the Section 405 Traffic safety information system improvement grants and 4 assessments for the Section 405 Impaired driving grant.

⁵ Assessment average is based on the total number of assessments conducted each year and divided by the number of years since the inception of assessment requirements for certain grants under MAP-21, Public Law 112-141.

Under the grant application and annual report requirements, we estimate that it will take each respondent approximately 240 hours to collect, review and submit the required information to NHTSA for the Section 402 program (200 burden hours for grant applications and 40 hours for annual reports). We further estimate that it will take each respondent approximately 180 hours to collect, review and submit the required information to NHTSA for the Section 405 program. For traffic safety information system improvement grants, we estimate that it takes 123 hours to respond to questions under the assessment. For occupant protection and impaired driving countermeasures grants, we estimate that it takes 80 hours to provide the required information and respond to questions under an assessment. Based on the above information, the estimated annual burden hours for all State respondents is 26,522 hours.

NHTSA estimates the labor cost associated with respondents preparing application materials using the estimated average wage for “Management Analysts,” Occupation Code 13-1111. The Bureau of Labor Statistics estimates that the average hourly wage for management analysts in State and local government is $31.95.⁶ The Bureau of Labor Statistics estimates that wages for State and local government workers represent 61.8% of total compensation costs.⁷ Therefore, NHTSA estimates the hourly labor costs to be $51.70 and estimates that hourly labor cost associated with preparing materials to be $24,056 per respondent. If all eligible States applied for and received grants for all programs (and including the annual number of assessment responses required from States), the total labor costs on all respondents would be $1,855,099.

⁶ See May 2019 National Industry-Specific Occupational Employment and Wage Estimates, NAICS 336100—Motor Vehicle Manufacturing, available at https://www.bls.gov/oes/current/naics4_999200.htm (accessed January 6, 2021).

⁷

These estimates are based on every eligible respondent submitting the required information for every available grant. However, not all States apply for and receive a grant each year under each of these programs. In addition, under Section 405 grants, some requirements permit States to submit a single application covering multiple years allowing States to simply recertify in subsequent years.

In addition to the burden hours for State respondents, this information collection also involves burden hours for subject matter experts who assess the States and burden hours for administrative assistants. For occupant protection and impaired driving assessments it is estimated that assessors spend approximately 80 hours of work on each assessment, based on the following assumptions: 46 hours for the interviews and panel discussions and 34 hours for pre- and post-assessment activities, to include reviewing: (1) Briefing book materials; (2) resources on the State Highway Safety Office's website, and (3) reviewing comments and/or suggestions submitted from the State after their review of the assessment final report.The honorarium the State pays to each team member is $2,700, which translates to $33.75 per hour.

An administrative assistant works approximately 46 hours for the interviews and panel discussions and 18 hours for pre- and post-assessment activities, to include coordinating logistics, assisting team members and editing the document. The honorarium for this position is $2,100 (which translates to $32.80 per hour).

The cost for traffic records assessments is based on the honorarium that NHTSA pays each assessor. NHTSA pays each assessor $2,100 for their time and NHTSA estimates that each assessor spends approximately 16 hours for the assessment, or $131.25 per hour.

Accordingly, NHTSA estimates the total burden hours for this information collection request is 44,826 hours and the associated labor costs is estimated to be $2,440,089.

Estimated Total Annual Burden Cost: $422,500

In addition to the cost of states in conjunction with the assessments, there are other costs involved related to conducting the event such as subject matter expert stipend, travel and per diem. These costs are approximately $32,500 per occupant protection and impaired driving assessment. For the thirteen planned assessments, the cost is estimated to be $422,500.

Public Comments Invited: You are asked to comment on any aspects of this information collection, including (a) whether the proposed collection of information is necessary for the proper performance of the functions of the Department, including whether the information will have practical utility; (b) the accuracy of the Department's estimate of the burden of the proposed information collection; (c) ways to enhance the quality, utility and clarity of the information to be collected; and (d) ways to minimize the burden of the collection of information on respondents, including the use of automated collection techniques or other forms of information technology.

Authority: The Paperwork Reduction Act of 1995; 44 U.S.C. chapter 35, as amended; 49 CFR 1.49; and DOT Order 1351.29.

Jamie Pfister,
Associate Administrator for Regional Operations and Program Delivery.

[FR Doc. 2021-02652 Filed 2-8-21; 8:45 am]

BILLING CODE 4910-59-P